DEPARTMENT OF ENERGY

Excess Uranium Management: Effects of DOE Transfers of Excess Uranium on Domestic Uranium Mining, Conversion, and Enrichment Industries; Request for Information

AGENCY: Office of Nuclear Energy, Department of Energy.

ACTION: Extension of comment period.

SUMMARY: On December 8, 2014, the U.S. Department of Energy (DOE) published a request for information (RFI) seeking comment on certain issues related to DOE's plan to issue a new Secretarial Determination covering continued transfers of uranium for cleanup services at the Portsmouth Gaseous Diffusion Plant and for down-blending of highly-enriched uranium to low-enriched uranium. The RFI established a January 7, 2015, deadline for the submission of written comments. DOE is extending the comment period to January 22, 2015.

DATES: DOE will accept comments, data, and information responding to this RFI submitted on or before January 22, 2015.

ADDRESSES: Interested persons may submit comments by any of the following methods.

1. Email: RFI-UraniumTransfers@hq.doe.gov. Submit electronic comments in WordPerfect, Microsoft Word, PDF, or ASCII file format, and avoid the use of special characters or any form of encryption.

2. Postal Mail: Mr. David Henderson, U.S. Department of Energy, Office of Nuclear Energy, Mailstop NE-52, 19901 Germantown Rd., Germantown, MD 20874-1290. If possible, please submit all items on a compact disk (CD), in which case it is not necessary to include printed copies.

3. Hand Delivery/Courier: Mr. David Henderson, U.S. Department of Energy, Office of Nuclear Energy, Mailstop NE-52, 19901 Germantown Rd., Germantown, MD 20874-1290. Phone: (301) 903-2590. If possible, please submit all items on a CD, in which case it is not necessary to include printed copies.

Instructions: All submissions received must include the agency name for this request for information. No facsimiles (faxes) will be accepted.

FOR FURTHER INFORMATION CONTACT: Mr. David Henderson, U.S. Department of Energy, Office of Nuclear Energy, Mailstop NE-52, 19901 Germantown Rd., Germantown, MD 20874-1290. Phone: (301) 903-2590. Email: David.Henderson@Nuclear.Energy.Gov.

SUPPLEMENTARY INFORMATION: On December 8, 2014, the U.S. Department of Energy (DOE) published a request for information (RFI) in the Federal Register (79 FR 72661). DOE noted that it is planning to issue a new Secretarial Determination covering continued transfers of uranium for cleanup services at the Portsmouth Gaseous Diffusion Plant and for down-blending of highly-enriched uranium to low-enriched uranium. The RFI solicited information about the effects of the proposed transfers in the uranium markets and possible consequences for the domestic uranium mining, conversion, and enrichment industries. The RFI also solicited recommendations about factors that DOE should consider and/or the methodology it should use in assessing the possible impacts of transfers. The RFI established a January 7, 2015, deadline for the submission of written comments. DOE has received requests from the public for extension of the public comment period. In response to those requests and other considerations, DOE is extending the comment period to January 22, 2015 to provide the public additional time for comment.

Issued in Washington, DC, on December 18, 2014.
Peter B. Lyons,
Assistant Secretary for Nuclear Energy, Office of Nuclear Energy.

[FR Doc. 2014-30177 Filed 12-23-14; 8:45 am]

BILLING CODE 6450-01-P